DEPARTMENT OF THE INTERIOR

Bureau of Indian Affairs

[167 A2100DD/AAKC001030/A0A501010.999900]

Indian Gaming

AGENCY: Bureau of Indian Affairs, Interior.

ACTION: Notice.

SUMMARY: The Skokomish Indian Tribe and State of Washington entered into an amendment to an existing Tribal-State compact governing Class III gaming; this notice announces approval of the amendment.

DATES: Effective July 18, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The amendment allows the Skokomish Indian Tribe (Tribe) to operate two gaming facilities, updates certain definitions and annual reporting requirements for problem gambling funds, and recognizes the Skokomish Indian Tribal Enterprise, Incorporated, as owner/operator of the Tribe's gaming facilities. The amendment is approved. See 25 U.S.C. 2710(d)(8)(A).

Dated: July 11, 2016.
Lawrence S. Roberts,
Acting Assistant Secretary—Indian Affairs.

[FR Doc. 2016-16919 Filed 7-15-16; 8:45 am]

BILLING CODE 4337-15-P